DEPARTMENT OF TRANSPORTATION

Federal Railroad Administration

[Docket Number FRA-2021-0004]

Notice of Application for Approval of Discontinuance or Modification of a Railroad Signal System

Under part 235 of title 49 Code of Federal Regulations (CFR) and 49 U.S.C. 20502(a), this document provides the public notice that on January 6, 2021, Norfolk Southern Corporation (NS) petitioned the Federal Railroad Administration (FRA) seeking approval to discontinue or modify a signal system. FRA assigned the petition Docket Number FRA-2021-0004.

Applicant: Norfolk Southern Corporation, Tommy A. Phillips, Senior Director—C&S Engineering, 1200 Peachtree Street NE, Atlanta, GA 30309

Specifically, NS requests permission to discontinue a traffic control system (TCS) on the S line, from milepost (MP) S146.0, control point (CP) Craggy, at Murphy Junction, to MP S228, CP New Line, at Morristown, on the Gulf Division. This includes CPs at Craggy, Volga, Ivy, Nocona, Walnut, Hot Springs, French, Del Rio, Big Creek, Bridgeport, Huff, Leadvale, Lilac, and Douglas, and 20 automatic signals. The main track between S146 and S228 will be converted to NS Rule 171 operation. An automatic signal at MP S226.5 will be converted to an operable approach signal. The signaled sidings within the application limits will be made non-controlled, other than main track.

NS states the reason for the proposed discontinuance is that operations no longer require TCS.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by March 11, 2021 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2021-01423 Filed 1-22-21; 8:45 am]

BILLING CODE 4910-06-P